FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201361.

Agreement Name: Port of Los Angeles Data Delivery Agreement.

Parties: The City of Los Angeles Harbor Department, acting by and through the Executive Director of its Harbor Department; PierPASS LLC, APMT Terminals Pacific Ltd.; Fenix Marine Services, Ltd.; Everport Terminal Services, Inc.; Trapac LLC; West Basin Container Terminal LLC; and Yusen Terminals LLC.

Synopsis: The agreement authorizes terminals who are tenants of the Port of Los Angeles to provide the Port with truck data from the tenants' terminal gate transactions. The parties request expedited review.

Proposed Effective Date: 7/17/2021.

Location: https://www2.fmc.gov/FMC.Agreements.Web/Public/AgreementHistory/43505.

Dated: June 3, 2021.
Rachel E. Dickon,
Secretary.

[FR Doc. 2021-11975 Filed 6-7-21; 8:45 am]

BILLING CODE 6730-02-P